NATIONAL AERONAUTICS AND SPACE ADMINISTRATION

[Notice (04-041)]

NASA Advisory Council, Biological and Physical Research Advisory Committee, Research Partnership Subcommittee Meeting

AGENCY: National Aeronautics and Space Administration (NASA).

ACTION: Notice of meeting.

SUMMARY: The National Aeronautics and Space Administration announces a meeting of the NASA Advisory Council, Biological and Physical Research Advisory Committee, Research Partnership Subcommittee (RPS).

DATES: Tuesday, April 6, 2004, 9 a.m. to 5 p.m.

ADDRESSES: NASA Headquarters, 300 E Street, SW., Room Mic 5A, Washington, DC 20546.

FOR FURTHER INFORMATION CONTACT: Dr. Lance Bush, Code US, National Aeronautics and Space Administration, Washington, DC 20546, 202/358-2115.

SUPPLEMENTARY INFORMATION: The meeting will be open to the public up to the seating capacity of the room. Advance notice of attendance to the Executive Secretary is requested.

The agenda for the meeting will include the following topics:

—Introduction/remarks;

—President's exploration vision;

—Independent review result;

—SPD development plan;

—Subcommittee discussion;

—Wrap-up/recommendations.

Attendees will be requested to sign a register and to comply with NASA security requirements, including the presentation of a valid picture ID, before receiving an access badge. Foreign nationals attending this meeting will be required to provide the following information: Full name; gender; date/place of birth; citizenship; visa/green-card information (number, type, expiration date); passport information (number, country, expiration date); employer/affiliation information (name of institution, address, country, phone); title/position of attendee. To expedite admittance, attendees can provide identifying information in advance by contacting Ms. Kim Butler via e-mail at kbutler@hq.nasa.gov or by telephone at (202) 358-2560.

It is imperative that the meeting be held on this date to accommodate the scheduling priorities of the key participants.

Al Condes,
Acting Assistant Administrator for External Relations, National Aeronautics and Space Administration.

[FR Doc. 04-5392 Filed 3-9-04; 8:45 am]

BILLING CODE 7510-01-P